DEPARTMENT OF ENERGY

Federal Energy Regulatory Commission

Combined Notice of Filings #1

Take notice that the Commission received the following electric corporate filings:

Docket Numbers: EC19-120-000.

Applicants: El Paso Electric Company, Sun Jupiter Holdings LLC.

Description: Second Supplement to August 13, 2019 Joint Application for Authorization Under Section 203 of the Federal Power Act of El Paso Electric Company, et al.

Filed Date: 1/17/20.

Accession Number: 20200117-5252.

Comments Due: 5 p.m. ET 1/27/20.

Docket Numbers: EC20-18-000; EC20-19-000.

Applicants: Pattern Energy Group Inc., Canada Pension Plan Investment Board, Riverstone Holdings LLC.

Description: Supplement to November 22, 2019 Application for Authorization(s) Under Section 203 of the Federal Power Act, et al. of Pattern Energy Group Inc., et al. under EC20-18, et al.

Filed Date: 1/17/20.

Accession Number: 20200117-5223

Comments Due: 5 p.m. ET 1/27/20.

Docket Numbers: EC20-33-000.

Applicants: Panda Liberty LLC, Panda Patriot LLC, Hamilton Projects Acquiror, LLC.

Description: Application for Authorization Under Section 203 of the Federal Power Act, et al.

Filed Date: 1/17/20.

Accession Number: 20200117-5254.

Comments Due: 5 p.m. ET 2/7/20.

Take notice that the Commission received the following electric rate filings:

Docket Numbers: ER15-704-010.

Applicants: Pacific Gas and Electric Company.

Description: Compliance filing: Compliance filing City and County of San Francisco WDT SA and IA (SA 275) to be effective 7/23/2015.

Filed Date: 1/17/20.

Accession Number: 20200117-5208.

Comments Due: 5 p.m. ET 2/7/20.

Docket Numbers: ER15-704-011.

Applicants: Pacific Gas and Electric Company.

Description: Compliance filing: Compliance filing City and County of San Francisco WDT SA and IA (SA 275) to be effective 7/1/2015.

Filed Date: 1/17/20.

Accession Number: 20200117-5211.

Comments Due: 5 p.m. ET 2/7/20.

Docket Numbers: ER19-1900-002.

Applicants: Golden Spread Electric Cooperative, Inc.

Description: Compliance filing: Order No. 845 Compliance Filing to be effective 5/20/2019.

Filed Date: 1/21/20.

Accession Number: 20200121-5026.

Comments Due: 5 p.m. ET 2/11/20.

Docket Numbers: ER20-278-001.

Applicants: Avista Corporation.

Description: Tariff Amendment: Avista Corp Deficiency Response and Cancellation of RS CG2 to be effective 4/2/2020.

Filed Date: 1/21/20.

Accession Number: 20200121-5011.

Comments Due: 5 p.m. ET 2/11/20.

Docket Numbers: ER20-359-002.

Applicants: Midcontinent Independent System Operator, Inc.

Description: Tariff Amendment: 2020-01-21_Deficiency Response for Pro Forma FSA to be effective 12/31/9998.

Filed Date: 1/21/20.

Accession Number: 20200121-5046.

Comments Due: 5 p.m. ET 2/11/20.

Docket Numbers: ER20-405-002.

Applicants: Golden Spread Electric Cooperative, Inc.

Description: Tariff Amendment: Second Amendment ER20-405 Filing to be effective 1/1/2020.

Filed Date: 1/21/20.

Accession Number: 20200121-5041.

Comments Due: 5 p.m. ET 1/31/20.

Docket Numbers: ER20-847-000.

Applicants: Golden Fields Solar III, LLC.

Description: § 205(d) Rate Filing: Certificate of Concurrence to be effective 1/17/2020.

Filed Date: 1/17/20.

Accession Number: 20200117-5202.

Comments Due: 5 p.m. ET 2/7/20.

Docket Numbers: ER20-848-000.

Applicants: Hampshire Power Corporation.

Description: Baseline eTariff Filing: Hampshire Power Baseline MBR Tariff Filing to be effective 1/17/2020.

Filed Date: 1/17/20.

Accession Number: 20200117-5203.

Comments Due: 5 p.m. ET 2/7/20.

Docket Numbers: ER20-849-000.

Applicants: Old Dominion Electric Cooperative

Description: § 205(d) Rate Filing: Old Dominion Electric Cooperative Superseding Cost-of-Service Rate Schedule to be effective 3/17/2020.

Filed Date: 1/17/20.

Accession Number: 20200117-5205.

Comments Due: 5 p.m. ET 2/7/20.

Docket Numbers: ER20-850-000.

Applicants: Bulb US LLC.

Description: Baseline eTariff Filing: Bulb US Application for Market Based Rate to be effective 1/18/2020.

Filed Date: 1/17/20.

Accession Number: 20200117-5212.

Comments Due: 5 p.m. ET 2/7/20.

Docket Numbers: ER20-851-000.

Applicants: Bulb Energy Incorporated.

Description: Baseline eTariff Filing: Bulb Energy Application for MBR Filing to be effective 1/18/2020.

Filed Date: 1/17/20.

Accession Number: 20200117-5214.

Comments Due: 5 p.m. ET 2/7/20.

Docket Numbers: ER20-854-000.

Applicants: PJM Interconnection, L.L.C.

Description: § 205(d) Rate Filing: First Revised ISA No. 4618; Queue No. 4618 to be effective 12/19/2019.

Filed Date: 1/21/20.

Accession Number: 20200121-5076.

Comments Due: 5 p.m. ET 2/11/20.

Docket Numbers: ER20-855-000.

Applicants: Midcontinent Independent System Operator, Inc., Northern Indiana Public Service Company.

Description: § 205(d) Rate Filing: 2020-01-21_NIPSCO Depreciation Rate Filing to be effective 1/1/2020.

Filed Date: 1/21/20.

Accession Number: 20200121-5091.

Comments Due: 5 p.m. ET 2/11/20.

Docket Numbers: ER20-856-000.

Applicants: Alabama Power Company.

Description: § 205(d) Rate Filing: Washington County Solar LGIA Filing to be effective 1/9/2020.

Filed Date: 1/21/20.

Accession Number: 20200121-5097.

Comments Due: 5 p.m. ET 2/11/20.

Docket Numbers: ER20-857-000.

Applicants: Midcontinent Independent System Operator, Inc.

Description: § 205(d) Rate Filing: 2020-01-21_Regional Cost Allocation Filing to be effective 3/22/2020.

Filed Date: 1/21/20.

Accession Number: 20200121-5099.

Comments Due: 5 p.m. ET 2/11/20.

Docket Numbers: ER20-858-000.

Applicants: Midcontinent Independent System Operator, Inc.

Description: § 205(d) Rate Filing: 2020-01-21_Revisions to the TOA to Expand and Clarify Cost Allocation to be effective 3/22/2020.

Filed Date: 1/21/20.

Accession Number: 20200121-5109.

Comments Due: 5 p.m. ET 2/11/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 21, 2020.
Nathaniel J. Davis, Sr.,
Deputy Secretary.

[FR Doc. 2020-01363 Filed 1-27-20; 8:45 am]

BILLING CODE 6717-01-P